DEPARTMENT OF HEALTH AND HUMAN SERVICES

Centers for Disease Control and Prevention

Advisory Committee on Immunization Practices: Notice of Charter Renewal

This gives notice under the Federal Advisory Committee Act (Public Law 92-463) of October 6, 1972, that the Advisory Committee on Immunization Practices, Centers for Disease Control and Prevention, of the Department of Health and Human Services, has been renewed for a 2-year period through April 1, 2006.

For more information, contact Dr. Stephen Hadler, Acting Executive Secretary, Advisory Committee on Immunization Practices, Centers for Disease Control and Prevention, of the Department of Health and Human Services, 1600 Clifton Road, NE., Mailstop E05, Atlanta, Georgia 30333, telephone 404/639-8549 or fax 404/639-8626.

The Director, Management Analysis and Services Office, has been delegated the authority to sign Federal Register notices pertaining to announcements of meetings and other committee management activities, for both the Centers for Disease Control and Prevention and the Agency for Toxic Substances and Disease Registry.

Dated: April 6, 2004.
Alvin Hall,
Director, Management Analysis and Services Office, Centers for Disease Control and Prevention.

[FR Doc. 04-8189 Filed 4-9-04; 8:45 am]

BILLING CODE 4163-19-P